DEPARTMENT OF LABOR

Office of the Secretary

Submission for OMB Review; Comment Request

April 22, 2003.

The Department of Labor (DOL) has submitted the following public information colleciton requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation, contact Darrin King on (202) 693-4129 or E-Mail: king.darrin@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration (ESA).

Title: Request for Earnings Information.

Type of Review: Extension of a currently approved collection.

OMB Number: 1215-0112.

Frequency: On occasion.

Type of Response: Reporting.

Affected Public: Individuals or households.

Number of Respondents: 1,600.

Annual Responses: 1,600.

Estimated Time Per Response: 15 minutes.

Total Burden Hours: 400.

Total Annualized Capital/Startup Costs: $0.

Total Annual Costs (operating/maintaining systems or purchasing services): $0.

Description: The Form LS-426 gathers information regarding an employee's average weekly wage. This information is needed for determination of compensation benefits in accordance with Section 10 of the Longshore and Harbors Workers' Compensation Act.

Agency: Employment Standards Administration (ESA).

Title: The Remedial Education Provisions of the Fair Labor Standards Act.

Type of Review: Extension of a currently approved collection.

OMB Number: 1215-0175.

Frequency: On occasion.

Type of Response: Recordkeeping.

Affected Public: Business or other for profit; Not-for-profit institutions; State, Local, or Tribal Government.

Number of Respondents: 15,000.

Annual Responses: 30,000.

Estimated Time Per Response: 1 minute per week for 10 weeks (10 minutes per employee).

Total Burden Hours: 5,000.

Total Annualized Capital/Startup Costs: $0.

Total Annual Costs (operating/maintaining systems or purchasing services): $0.

Description: The recordkeeping requirements for employers utilizing the partial overtime for remedial education are necessary to ensure employees are paid in compliance with the remedial education provisions of the Fair Labor Standards Act.

Ira L. Mills,
Departmental Clearance Officer.

[FR Doc. 03-10338 Filed 4-25-03; 8:45 am]

BILLING CODE 4510-CF-M